DEPARTMENT OF HEALTH AND HUMAN SERVICES

Administration for Children and Families

Submission for OMB Review; Comment Request

Title: Understanding Urban Indians' Interactions with ACF Programs and Services.

OMB No.: New Collection.

Description: As part of the “Understanding Urban Indians' Interactions with ACF Programs and Services” research study, telephone interviews will be conducted with up to 34 directors of Urban Indian Centers around the county, and site visits will be made to four urban areas with a high percentage of American Indians or Alaska Natives within the population: Phoenix, AZ; New York City, NY; Minneapolis, MN; and Anchorage, Alaska. Members of the research study team will utilize a telephone interview guide and field discussion guide to collect information from staff members at relevant programs and organizations (e.g., American Indian Organizations, social service agencies serving urban Indians) in these areas.

The goal of this information collection is to assess the challenges and context for family self-sufficiency for urban Indians and their interaction with services and programs offered by ACF. The information gathered will help to generate recommendations and action items for ACF in seeking to better understand and meet the needs of the urban Indian population.

Respondents: Urban Indian Center directors, non-Native service providers, Native service providers, and AI/AN residents.

Annual Burden Estimates
Instrument | Annual number of respondents | Number of responses per respondent | Average burden hours per response | Total annual burden hours
Telephone interview guide for directors of Urban Indian Centers | 34 | 1 | 1.25 | 42.5
Interview guide for Native service providers | 24 | 1 | 1 | 24
Interview guide for non-Native service providers | 24 | 1 | 1 | 24
Interview guide for AI/AN residents of CITY | 64 | 1 | 1 | 64

Estimated Total Annual Burden Hours: 154.5.

Additional Information

Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Steven M. Hanmer,
OPRE Reports Clearance Officer.

[FR Doc. 2012-11273 Filed 5-10-12; 8:45 am]

BILLING CODE 4184-09-M